DEPARTMENT OF COMMERCE

Submission for OMB Review; Comment Request

The Department of Commerce will resubmit to the Office of Management and Budget (OMB) for clearance the following proposal for collection of information under the provisions of the Paperwork Reduction Act (44 U.S.C. chapter 35). The clearance request was withdrawn and is now being resubmitted because the Census Bureau has made changes to the request. The sample size has been lowered, the reinterview rate has been increased and a new Census Coverage Measurement Recall Bias Panel Study has been added. Two previous notices were published in the Federal Register announcing plans to submit this request (June 19, 2009 on page 29166 and Nov. 24, 2009 on page 61329). Neither of the previous notices included information about these changes.

Agency: U.S. Census Bureau.

Title: 2010 Census Coverage Measurement, Person Interview, Person Interview Reinterview, and Recall Bias Panel Study.

OMB Control Number: None.

Form Number(s): All data will be collected using automated instruments on computers.

Type of Request: New collection.

Burden Hours: 68,938.

Number of Respondents: 275,750.

Average Hours per Response: 15 minutes.

Needs and Uses: The U.S. Census Bureau requests authorization from the Office of Management and Budget to conduct the Census Coverage Measurement (CCM) Person Interview (PI) and Person Interview Reinterview (PIRI) operations as part of the 2010 Census. The CCM program will provide estimates of net coverage error and components of coverage error (omissions and erroneous enumerations) for housing units and persons in housing units. The data collection and matching methodologies for previous coverage measurement programs were designed only to measure net coverage error, which reflects the difference between omissions and erroneous inclusions.

The 2010 CCM will be comprised of two samples selected to measure census coverage of housing units and the household population: The population sample (P sample) and the enumeration sample (E sample). The primary sampling unit is a block cluster, which consists of one or more contiguous census blocks. The P sample is a sample of housing units and persons obtained independently from the census for a sample of block clusters. The E sample is a sample of census housing units and enumerations in the same block cluster as the P sample. The results of the housing unit matching operations will be used to determine which CCM and Census addresses will be eligible to go to the CCM Person Interview (PI) Operation. The PI Operations will contain approximately 205,000 sample addresses. The Person Interview Reinterview Operation will be a sample of those cases with an estimate of 30,750 sample addresses.

The automated PI instrument will be used to collect the following information for persons in housing units only:

1. Roster of people living at the housing unit at the time of the CCM PI Interview.

2. Census Day (April 1, 2010) address information from people who moved into the sample address since Census Day.

3. Other addresses where a person may have been counted on Census Day.

4. Other information to help us determine where a person should have been counted as of Census Day (relative to Census residence rules). For example, enumerators will probe for persons who might have been left off the household roster; ask additional questions about persons who moved from another address on Census Day to the sample address; collect additional information for persons with multiple addresses; and collect information on the addresses of other potential residences for household members.

5. Demographic information for each person in the household on Interview Day or Census Day, including name, date of birth, sex, race, Hispanic Origin, and relationship.

6. Name and above information for any person who has moved out of the sample address since Census Day (if known).

We also will conduct a quality control operation—PI Reinterview (PIRI) on 15 percent of the PI cases. The purpose of the operation is to confirm that the PI enumerator conducted a PI interview with an actual household member or a valid proxy respondent and conduct a full person interview when falsification is suspected. If PIRI results indicate falsified information by the original enumerator, all cases worked by the original enumerator are reworked by reassigning the cases to a different PI enumerator.

In addition to the CCM PI Operation, CCM will conduct a Recall Bias Panel Study that will be conducted using an automated instrument over the phone. The study will examine recall bias in the CCM with respect to residence during the 2010 Census cycle. One of the recurring questions regarding the 2010 CCM is whether conducting the CCM Person Interview (PI) and CCM Person Followup (PFU) operations, later than in previous post-enumeration surveys, will cause degradation on the data collection of respondent moves since Census Day (April 1, 2010) and the information on alternate addresses for the residents. The main goal of the study is to provide initial insight into the issue of recall bias for the CCM PI and PFU. This initial study will measure if we can detect a problem as our contact moves away from Census Day, but will not be able to detect if the reporting errors cancel each other out. Therefore, if no problem is found, we will not be able to conclude that there is not a problem with recall bias. The plan is to design and implement further studies of this issue for CCM in the 2020 Decennial testing life cycle.

Four panels of random digit dialing (RDD) respondents will be interviewed during May, June and September 2010, and February 2011. These time periods represent the current timing for 2010 Census Nonresponse Followup, Coverage Followup, CCM Person Interview (PI), and the CCM Person Followup (PFU) operations. The study will collect the sample information as the CCM PI operation. The study will include 10,000 numbers per panel for a total of 40,000 individuals that can be contacted.

Affected Public: Individuals or households.

Frequency: One time.

Respondent's Obligation: PI Operation: Mandatory.

Recall Study: Voluntary.

Legal Authority: Title 13, United States Code, Sections 141 and 193.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: January 6, 2010.
Glenna Mickelson,
Management Analyst, Office of the Chief Information Officer.

[FR Doc. 2010-286 Filed 1-11-10; 8:45 am]

BILLING CODE 3510-07-P